DEPARTMENT OF COMMERCE

National Oceanic and Atmospheric Administration

50 CFR Part 648

[Docket No. 240408-0102]

RIN 0648-BM79

Fisheries of the Northeastern United States; 2024-2026 Specifications for the Atlantic Mackerel, Squid, and Butterfish Fishery Management Plan

AGENCY: National Marine Fisheries Service (NMFS), National Oceanic and Atmospheric Administration (NOAA), Commerce.

ACTION: Proposed rule, request for comments.

SUMMARY: NMFS proposes the 2024-2026 specifications for the Mackerel, Squid, and Butterfish Fishery Management Plan as recommended by the Mid-Atlantic Fishery Management Council. This action proposes to set the 2024 Illex squid and 2024-2026 longfin squid specifications and reaffirms the 2024 chub mackerel and butterfish specifications. The implementing regulations for the Mackerel, Squid, and Butterfish Fishery Management Plan require us to publish specifications every fishing year for each of these species and to provide an opportunity for public comment. The proposed specifications are intended to establish allowable harvest levels that will prevent overfishing, consistent with the most recent scientific information.

DATES: Public comments must be received by May 20, 2024.

ADDRESSES: Copies of supporting documents used by the Mid-Atlantic Fishery Management Council, including the draft Supplemental Information Report (SIR) and the Regulatory Flexibility Act (RFA) analysis are available from: Dr. Christopher M. Moore, Executive Director, Mid-Atlantic Fishery Management Council, 800 North State Street, Suite 201, Dover, DE 19901, telephone (302) 674-2331.

A plain language summary of this proposed rule is available at https://www.regulations.gov/docket/NOAA-NMFS-2023-0154. You may submit comments on this document, identified by NOAA-NMFS-2023-0154, by the following method:

• Electronic Submission: Submit all electronic public comments via the Federal e-Rulemaking Portal. Visit https://www.regulations.gov and NOAA-NMFS-2023-0154 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Louis Forristall, Fishery Management Specialist, (978) 281-9321.

SUPPLEMENTARY INFORMATION:

Background

This rule proposes specifications, which are the combined suite of commercial and recreational catch levels established for one or more fishing years, for longfin and Illex squid, and reaffirms previously announced projected specifications for butterfish and chub mackerel. Section 302(g)(1)(B) of the Magnuson-Stevens Fishery Conservation and Management Act (Magnuson-Stevens Act) states that the Scientific and Statistical Committee (SSC) for each regional fishery management council shall provide its Council ongoing scientific advice for fishery management decisions, including recommendations for acceptable biological catch (ABC), preventing overfishing, ensuring maximum sustainable yield, and achieving rebuilding targets. The ABC is a level of catch that accounts for the scientific uncertainty in the estimate of the stock's defined overfishing limit (OFL).

The regulations implementing the fishery management plan (FMP) require the Mid-Atlantic Fishery Management Council's (Council) Mackerel, Squid, and Butterfish Monitoring Committee to develop specification recommendations for each species based upon the ABC advice of the Council's SSC. The FMP regulations also require the specification of annual catch limits (ACL) and accountability measure (AM) provisions for butterfish. Both squid species are exempt from the ACL/AM requirements because they have a life cycle of less than one year. In addition, the regulations require the specification of domestic annual harvest (DAH), the butterfish mortality cap in the longfin squid fishery, and initial optimum yield (IOY) for both squid species.

On July 27, 2023 (88 FR 48389), NMFS published a final rule in the Federal Register implementing the 2023 specifications for the chub mackerel, butterfish, longfin squid, and Illex squid fisheries. This included projected 2024 specifications for butterfish and projected 2024-2025 specifications for chub mackerel.

The Council's SSC met in March, May, and July 2023 to reevaluate the longfin squid, Illex squid, chub mackerel, and butterfish 2024 specifications based upon the latest information. At those meetings, the SSC concluded that no adjustments to these species' ABCs were warranted.

Proposed 2024-2026 Longfin Squid Specifications

NMFS proposes to maintain the 2023 longfin squid ABC of 23,400 metric tons (mt) for the 2024 fishing year, and projects the same ABC for the 2025-2026 fishing years. The background for this ABC is discussed in the proposed rule to implement the 2021-2022 squid and butterfish specifications (86 FR 38586, July 22, 2021) and is not repeated here. The IOY, DAH, and domestic annual processing (DAP) are calculated by deducting an estimated discard rate from the ABC. At its July 2023 meeting, the Mackerel, Squid and Butterfish Monitoring Committee recommended to increase the discard rate from 2 percent to 2.16 percent, therefore increasing the discard set-aside from 468 mt to 506.3 mt. This results in a 2024 IOY, DAH, and DAP of 22,893.7 mt (see table 1), which is a .17 percent decrease from the 2023 IOY, DAH and DAP of 22,932 mt. The Council adopted these recommendations at its August 2023 meeting, and NMFS concurs. NMFS and the Council will review these specifications during future annual specifications processes following data updates each spring. The 2025 specifications could change if new information becomes available.

Table 1—2024-2026 Longfin Squid Specifications in Metric Tons
Specification | 2024 | 2025-2026 (projected)
OFL | Unknown | Unknown
ABC | 23,400 | 23,400
IOY | 22,893.7 | 22,893.7
DAH/DAP | 22,893.7 | 22,893.7

Table 2—2024-2026 Longfin Quota Trimester Allocations
Trimester | Percent | Metric tons
I (Jan-Apr) | 43 | 9,861
II (May-Aug) | 17 | 3,898
III (Sep-Dec) | 40 | 9,173

Proposed 2024 Illex Squid Specifications

NMFS proposes to maintain the 2023 Illex squid ABC of 40,000 mt for the fishing year 2024, in alignment with the Council's recommendation. Based on the Council's recommendation, NMFS proposed that the rate used to calculate the discard set-aside be reduced from 4.53 percent to 3.42 percent, based on bycatch data from fishing years 2018-2019. Fishing years 2018-2019 were used because those were the most recent years where the full Illex quota was caught. This results in a 2024 IOY, DAH, and DAP of 38,631 mt (table 3), which is a slight increase from the 2023 IOY, DAH, and DAP of 38,192 mt.

Table 3—Proposed 2024 Illex Squid Specifications in Metric Tons
Specification | 2024
OFL | Unknown
ABC | 40,000
IOY | 38,631
DAH/DAP | 38,631

Reaffirmation of 2024 Butterfish Specifications

As part of the 2023-2025 multiyear specifications for butterfish, NMFS implemented projected specifications that would decrease the ABC by 12.7 percent, from 17,267 mt in 2023 to 15,764 mt in 2024, and the available quota from 11,271 mt in 2023 to 9,844 mt in 2024. Even with this reduction, the proposed 2024 butterfish quota is still above recent catch levels. After reviewing recent biological data, fishery performance, and recommendations from staff, the Mackerel, Squid, Butterfish Advisory Panel, and the SSC, the Council decided to reaffirm the previously-set 2024 specifications at its June 2023 meeting, and NMFS proposes to reaffirm the 2024 specifications in this rule.

Table 4—Proposed 2024 Butterfish Specifications in Metric Tons
Specification | 2024
OFL | 16,096
ABC/ACL | 15,764
Annual Catch Target (ACT) | 14,976
Assumed discards | 1,248
Total discards | 5,132
Butterfish cap in longfin | 3,884
DAH | 9,844

Reaffirmation of 2024 Atlantic Chub Mackerel Specifications

Amendment 21 to the FMP previously implemented chub mackerel specifications for the 2020-2022 fishing years. The Council reevaluated these specifications at its June 2022 meeting and decided to make no adjustments for the 2023-2025 fishing years. The Council reevaluated these specifications again at its June 2023 meeting and decided to make no adjustments for the 2024 fishing year. NMFS, in agreement with the Council's recommendation, proposes to set the previously implemented specifications for 2024 and projects the same for 2025.

Table 5—Proposed 2024-2025 Atlantic Chub Mackerel Specifications in Metric Tons
Specification | 2024-2025
ABC | 2,300
Annual Catch Limit (ACL) | 2,262
ACT | 2,171
Total Allowable Landings | 2,041

Classification

NMFS is issuing this rule pursuant to section 305(d) of the Magnuson-Stevens Act. Consistent with Magnuson-Stevens Act section 305(d), this action is necessary to carry out the Mackerel, Squid, and Butterfish FMP in accordance with the FMP's implementing regulations. The NMFS Assistant Administrator has determined that this proposed rule is consistent with the Mackerel, Squid, and Butterfish FMP, other provisions of the Magnuson-Stevens Act, and other applicable law, subject to further consideration after public comment.

This proposed rule has been determined to be not significant for purposes of Executive Order 12866.

The Chief Counsel for Regulation of the Department of Commerce certified to the Chief Counsel for Advocacy of the Small Business Administration (SBA) that this proposed rule, if adopted, would not have a significant economic impact on a substantial number of small entities. The purpose, context, and statutory basis for this action is described above and not repeated here. Business entities affected by this action include vessels that are issued limited access squid permits.

Vessels issued open access incidental catch permits for these species would not be affected by this action, because there are no proposed changes to the incidental trip limits for any species. Additionally, vessels holding chub mackerel permits would not be affected because there are no new changes proposed for that species.

Any entity with combined annual fishery landing receipts less than $11 million is considered a small entity based on standards published in the Federal Register (80 FR 81194, December 29, 2015). In 2023, 292 separate vessels held commercial limited access squid permits. Approximately 215 entities owned those vessels, and based on current SBA size standards, 205 would be small business entities. Fishing revenue and, therefore, economic impacts of annual mackerel, squid, and butterfish specifications depend upon species availability, which may change yearly. This action is not expected to have negative impacts on any participating entities. Chub mackerel would be maintained at status quo; butterfish quotas, which were previously approved in 2023 as projected specifications, would decrease from 2023 levels by 12.7 percent; longfin quotas would decrease by 0.17 percent; and Illex squid quotas would increase by 1.15 percent. This action would generally maintain the current squid specifications and there is no information that the action would impact small businesses differently than large businesses, or that it would unduly inhibit the ability of small entities to compete. To avoid exceeding the longfin squid ABC, the quota would be reduced by 0.17 percent to better account for potential discards, a negligible amount or impact, especially considering that the fishery rarely lands its quota. Although butterfish quotas would be reduced, the fishery has landed less than 75 percent of the DAH for the past several years, so the proposed quotas would still allow for a higher harvest level compared to what the fishery has recently landed.

In determining the significance of the economic impacts of the proposed action, NMFS considered the following two criteria outlined in applicable NMFS guidance: disproportionality and profitability. The proposed measures would not place a substantial number of small entities at a significant competitive disadvantage to large entities because all entities affected by this action would be equally affected. Accordingly, there are no disproportionate economic effects from this action between small and large entities. Proposed measures would not reduce fishing opportunities based on recent squid and butterfish landings, change any entity's access to these resources, or impose any costs on affected entities. Therefore, this action would not be expected to reduce revenues or profit for affected entities compared to recent levels. Based on the above justification, the proposed action is not expected to have a significant economic impact on a substantial number of small entities.

This proposed rule does not contain a change to a collection of information requirement for purposes of the Paperwork Reduction Act of 1995. The existing collection of information requirements would continue to apply under the following OMB Control Number: 0648-0229, Greater Atlantic Region Dealer Purchase Reports. Notwithstanding any other provision of the law, no person is required to respond to, nor shall any person be subject to a penalty for failure to comply with, a collection of information subject to the requirements of the PRA, unless that collection of information displays a currently valid OMB Control Number.

List of Subjects in 50 CFR Part 648

Fisheries, Fishing, Fishery closures and accountability measures.

Dated: April 15, 2024.
Samuel D. Rauch III,
Deputy Assistant Administrator for Regulatory Programs, National Marine Fisheries Service.

[FR Doc. 2024-08367 Filed 4-18-24; 8:45 am]

BILLING CODE 3510-22-P